NATIONAL COUNCIL ON DISABILITY

Sunshine Act Meetings

Times and Dates: 1 p.m. to 5 p.m., March 5, 2003; 8:30 a.m. to 12 p.m., March 6, 2003.

Place: Embassy Suites Hotel Alexandria'Old Town, 1900 Diagonal Road, Alexandria, VA 22314.

Status: Parts of this meeting will be open to the public. The rest of the meeting will be closed to the public.

Matters to be Considered: Reports from the Chairperson and the Executive Director, Committee meetings and Committee reports, executive session, unfinished business, new business, announcements, adjournment.

Portions Open to the Public: Reports from the Chairperson and the Executive Director, Committee meetings and Committee reports, unfinished business, new business, announcements, adjournment.

Portions Closed to the Public: Executive session.

Contact Person for More Information: Mark S. Quigley, Director of Communications, National Council on Disability, 1331 F Street, NW., Suite 850, Washington, DC 20004; 202-272-2004 (Voice), 202-272-2074 (TTY), 202-272-2022 (Fax), mquigley@ncd.gov (E-mail).

Agency Mission: The National Council on Disability (NCD) is an independent Federal agency composed of 15 members appointed by the President and confirmed by the U.S. Senate. Its overall purpose is to promote policies, programs, practices, and procedures that guarantee equal opportunity for all people with disabilities, including people from culturally diverse backgrounds, regardless of the nature or significance of the disability; and to empower people with disabilities to achieve economic self-sufficiency, independent living, and inclusion and integration into all aspects of society.

Accommodations: Those needing sign language interpreters or other disability accommodations should notify NCD at least one week prior to this meeting.

Language Translation: In accordance with E.O. 13166, Improving Access to Services for Persons with Limited English Proficiency, those people with disabilities who are limited English proficient and seek translation services for this meeting should notify NCD at least one week prior to this meeting.

Multiple Chemical Sensitivity/Environmental Illness: People with multiple chemical sensitivity/environmental illness must reduce their exposure to volatile chemical substances to attend this meeting. To reduce such exposure, NCD requests that attendees not wear perfumes or scented products at this meeting. Smoking is prohibited in meeting rooms and surrounding areas.

Dated: January 17, 2003.
Ethel D. Briggs,
Executive Director.

[FR Doc. 03-1585 Filed 1-17-03; 5:10 pm]

BILLING CODE 6820-MA-P